DEPARTMENT OF THE INTERIOR

National Park Service

National Register of Historic Places; Notification of Pending Nominations

Nominations for the following properties being considered for listing in the National Register were received by the National Park Service before June 23, 2001. Pursuant to section 60.13 of 36 CFR part 60 written comments concerning the significance of these properties under the National Register criteria for evaluation may be forwarded to the National Register, National Park Service, 1849 C St. NW., NC400, Washington, DC 20240. Written comments should be submitted by August 1, 2001.

Carol D. Shull,
Keeper of the National Register of Historic Places.

CALIFORNIA

San Bernardino County

Kelso Depot, Restaurant and Employees Hotel, Kelbaker Rd., jct. of Kelbaker and Cima Rds. at Union Pacific Railroad crossing, Kelso, 01000760

FLORIDA

Broward County

Croissant Park Administration Building, 1421 S. Andrews Ave., Ft. Lauderdale, 01000761

GEORGIA

Douglas County

Carnes, John Thomas, Family Log House, Clinton Nature Preservem 8270 Ephesus Church Rd., Winston, 01000762

LOUISIANA

Ouachita Parish

Milner Motors, 212 Walnut St., Monroe, 01000764

Washington Parish

Varnado, D.A. and Son Store, 936 Pearl St., Franklinton, 01000763

West Feliciana Parish

Rosedown Plantation, US 61 and LA 10, St. Francisville, 01000765

MINNESOTA

Cass County

Minnesota State Sanatorium for Consumptives, 7232 Ah-Gwah-Ching Rd. NW, Walker, 01000766

MISSOURI

Jackson County

Kirkwood Building, 1737-41 McGee St., Kansas City, 01000767

NEW JERSEY

Gloucester County

Green's, G.G., Block, 108 S. Broad St., Woodbury, 01000769

Mount Zion African Methodist Episcopal Church and Mount Zion Cemetery, 172 Garwin Rd., Woolwich, 01000768

NEW MEXICO

Bernalillo County

Monte Vista and College View Historic District, Roughly bounded by Girard and Lomas Blvds, Morningside Dr., Copper Ave., Campus and Monte Vista Blvds., Albuquerque, 01000770

Santa Fe County

El Puente de Los Hidalgos, Grant Ave. approx. 50 yds N of jct. with Paseo de Peralta, Santa Fe, 01000771

NEW YORK

Dutchess County

First Baptist Church (Poughkeepsie MRA), 260 Mill St., Poughkeepsie, 01000774

TENNESSEE

Monroe County

First Presbyterian Church, 601 Church St., Sweetwater, 01000772

WEST VIRGINIA

Doddridge County

Smith, Silas P., Opera, House, 117 Court St., West Union, 01000788

Jefferson County

Bolivar Heights—School House Ridge Skirmish Site (Harpers Ferry National Historical Park MPS), Bloomery Rd., Harpers Ferry, 01000786

Charles Town Mining, Manufacturing, and Improvement Company Building, 312 S. Mildred St., Ranson, 01000779

Grand View School (Harpers Ferry National Historical Park MPS), Putnam St., Harpers Ferry, 01000782

Hydroelectric Power Plant (Harpers Ferry National Historical Park MPS), Potomac Street extended, along Potomac R, Harpers Ferry, 01000787

Nash, Bradley, Farm (Harpers Ferry National Historical Park MPS), Old Furnace Rd., Harpers Ferry, 01000784

Niswarner Tract (Harpers Ferry National Historical Park MPS), Chestnust Hill Rd., Harpers Ferry, 01000785

Shipley School (Harpers Ferry National Historical Park MPS), 847 Washington St., Harpers Ferry, 01000783

Storer College (Harpers Ferry National Historical Park MPS), Fillmore St., Harpers Ferry, 01000781

Tattersal Property (Harpers Ferry National Historical Park MPS), Union St., Bolivar, 01000780

Mercer County

McNutt, Dr. Robert B., House, 1522 N. Walker St., Princeton, 01000777

Nicholas County

Beaver Mill, West Webster Rd., Craigsville, 01000776

Carden, James B., House, 1082 Country Rd., Summersville, 01000773

Downtown Richwood Historic District, Roughly including portions of Main St. Oakford Ave. and Commercial St., Richwood, 01000778

Summers County

Cooper's Mill, Off Ellison Ridge Rd.—Cty Rd. 27, Jumping Branch, 01000775

WYOMING

Natrona County

Casper Army Air Base, 8500 Fuller St., Casper, 01000789

Ohio Oil Company Building, 159 N. Wolcott St., Casper, 01000791

Teton County

Queen's Laundry Bath House, Sentinel Meadows, Lower Geyser Basin, Yellowstone National Park, 01000790

A request for removal has been made for the following resource:

COLORADO

La Plata County

La Plata County Fairgrounds, 2500 Main St., Durango, 91001031

[FR Doc. 01-17826 Filed 7-16-01; 8:45 am]

BILLING CODE 4310-70-P